INTERNATIONAL TRADE COMMISSION

[USITC SE-09-034]

Sunshine Act Meeting Notice

Agency Holding the Meeting: United States International Trade Commission.

Time and Date: December 30, 2009 at 11 a.m.

Place: Room 101, 500 E Street, SW., Washington, DC 20436. Telephone: (202) 205-2000.

Status: Open to the public.

Matters To Be Considered: 1. Agenda for future meetings: None.

2. Minutes.

3. Ratification List.

4. Inv. No. 701-TA-463 (Final)(Certain Oil Country Tubular Goods from China)—briefing and vote. (The Commission is currently scheduled to transmit its determination and Commissioners' opinions to the Secretary of Commerce on or before January 13, 2010.)

5. Outstanding action jackets: None.

In accordance with Commission policy, subject matter listed above, not disposed of at the scheduled meeting, may be carried over to the agenda of the following meeting.

Issued: December 15, 2009.
By order of the Commission.
William R. Bishop,
Hearings and Meetings Coordinator.

[FR Doc. E9-30098 Filed 12-15-09; 4:15 pm]

BILLING CODE 7020-02-P